DEPARTMENT OF ENERGY

Federal Energy Regulatory Commission

Combined Notice of Filings

Take notice that the Commission has received the following Natural Gas Pipeline Rate and Refund Report filings:

Filings Instituting Proceedings

Docket Numbers: CP16-22-003; CP16-23-002.

Applicants: NEXUS Gas Transmission, LLC, et al.

Description: Abbreviated Joint Application for Amendment to Certificate of Public Convenience and Necessity, and Authorization to Abandon by Lease of NEXUS Gas Transmission, LLC, et al. under CP16-22, et al.

Filed Date: 7/2/19.

Accession Number: 20190702-5218.

Comments Due: 5 p.m. ET 7/23/19.

Docket Numbers: RP18-75-005.

Applicants: Algonquin Gas Transmission, LLC.

Description: Compliance filing FRQ Settlement Compliance Filing 2 re Docket RP18-75 to be effective 8/1/2019.

Filed Date: 7/1/19.

Accession Number: 20190701-5116.

Comments Due: 5 p.m. ET 7/15/19.

Docket Numbers: RP19-1044-001.

Applicants: Cheniere Corpus Christi Pipeline, L.P.

Description: Request for Temporary Waiver and Extension of Time to Implement NAESB 3.1 Standards Per Order No. 587-Y of Cheniere Corpus Christi Pipeline, LP under RP19-1044.

Filed Date: 7/1/19.

Accession Number: 20190701-5419.

Comments Due: 5 p.m. ET 7/15/19.

Docket Numbers: RP19-1353-000.

Applicants: Northern Natural Gas Company.

Description: § 4(d) Rate Filing: 20190701 Section 4 Rate Case Part 1 of 3 to be effective 8/1/2019.

Filed Date: 7/1/19.

Accession Number: 20190701-5105.

Comments Due: 5 p.m. ET 7/15/19.

Docket Numbers: RP19-1354-000.

Applicants: Enable Gas Transmission, LLC.

Description: § 4(d) Rate Filing: Negotiated Rate Filing—July 1 2019 Encana 1011022 to be effective 7/1/2019.

Filed Date: 7/1/19.

Accession Number: 20190701-5106.

Comments Due: 5 p.m. ET 7/15/19.

Docket Numbers: RP19-1355-000.

Applicants: Columbia Gulf Transmission, LLC.

Description: § 4(d) Rate Filing: ELEOP Facilities Tariff References to be effective 8/1/2019.

Filed Date: 7/1/19.

Accession Number: 20190701-5107.

Comments Due: 5 p.m. ET 7/15/19.

Docket Numbers: RP19-1356-000.

Applicants: Gulf South Pipeline Company, LP.

Description: § 4(d) Rate Filing: Cap Rel Neg Rate Agmts (Atlanta Gas 8438 to various shippers eff 7-1-2019) to be effective 7/1/2019.

Filed Date: 7/1/19.

Accession Number: 20190701-5108.

Comments Due: 5 p.m. ET 7/15/19.

Docket Numbers: RP19-1357-000.

Applicants: Gulf South Pipeline Company, LP.

Description: § 4(d) Rate Filing: Cap Rel Neg Rate Agmts (Aethon 50488, 37657 to Scona 51294, 91297) to be effective 7/1/2019.

Filed Date: 7/1/19.

Accession Number: 20190701-5109.

Comments Due: 5 p.m. ET 7/15/19.

Docket Numbers: RP19-1358-000.

Applicants: Texas Gas Transmission, LLC.

Description: § 4(d) Rate Filing: Cap Rel Neg Rate Agmts (Gulfport 35445, 34939 to Eco-Energy 38093, 38094) to be effective 7/1/2019.

Filed Date: 7/1/19.

Accession Number: 20190701-5110.

Comments Due: 5 p.m. ET 7/15/19.

Docket Numbers: RP19-1359-000.

Applicants: ETC Tiger Pipeline, LLC.

Description: § 4(d) Rate Filing: Housekeeping Filing on 7-1-19 to be effective 8/1/2019.

Filed Date: 7/1/19.

Accession Number: 20190701-5147.

Comments Due: 5 p.m. ET 7/15/19.

Docket Numbers: RP19-1360-000.

Applicants: Trailblazer Pipeline Company LLC.

Description: § 4(d) Rate Filing: Neg Rate 2019-06-27-19 5 sharing Ks to be effective 7/1/2019.

Filed Date: 7/1/19.

Accession Number: 20190701-5175.

Comments Due: 5 p.m. ET 7/15/19.

Docket Numbers: RP19-1361-000.

Applicants: Fayetteville Express Pipeline LLC.

Description: § 4(d) Rate Filing: Housekeeping Filing on 7-1-19 to be effective 8/1/2019.

Filed Date: 7/1/19.

Accession Number: 20190701-5202.

Comments Due: 5 p.m. ET 7/15/19.

Docket Numbers: RP19-1362-000.

Applicants: RH energytrans, LLC.

Description: § 4(d) Rate Filing: RH energytrans, LLC—Filing of Baseline Tariff, Dkt. No. CP18-6-000 Compliance to be effective 9/1/2019.

Filed Date: 7/1/19.

Accession Number: 20190701-5219.

Comments Due: 5 p.m. ET 7/15/19.

Docket Numbers: RP19-1363-000.

Applicants: NEXUS Gas Transmission, LLC.

Description: § 4(d) Rate Filing: Negotiated Rate—Amended CNX Gas 860004 to be effective 7/1/2019.

Filed Date: 7/1/19.

Accession Number: 20190701-5223.

Comments Due: 5 p.m. ET 7/15/19.

Docket Numbers: RP19-1364-000.

Applicants: Tennessee Gas Pipeline Company, L.L.C.

Description: § 4(d) Rate Filing: Volume No. 2—Twin Eagle SP340846 & SP340847 to be effective 8/1/2019.

Filed Date: 7/1/19.

Accession Number: 20190701-5265.

Comments Due: 5 p.m. ET 7/15/19.

Docket Numbers: RP19-1365-000.

Applicants: WTG Hugoton, LP.

Description: § 4(d) Rate Filing: Annual Fuel Retention Percentage Filing 2019-2020 to be effective 8/1/2019.

Filed Date: 7/1/19.

Accession Number: 20190701-5323.

Comments Due: 5 p.m. ET 7/15/19.

Docket Numbers: RP19-1366-000.

Applicants: Rockies Express Pipeline LLC.

Description: § 4(d) Rate Filing: Neg Rate 2019-07-01 Encana to be effective 7/1/2019.

Filed Date: 7/1/19.

Accession Number: 20190701-5325.

Comments Due: 5 p.m. ET 7/15/19.

Docket Numbers: RP19-1367-000.

Applicants: Equitrans, L.P.

Description: § 4(d) Rate Filing: Negotiated Capacity Release Agreements—7/1/2019 to be effective 7/1/2019.

Filed Date: 7/1/19.

Accession Number: 20190701-5331.

Comments Due: 5 p.m. ET 7/15/19.

Docket Numbers: RP19-1370-000.

Applicants: MIGC LLC.

Description: Annual Fuel Retention Percentage Tracker of MIGC LLC under RP19-1370.

Filed Date: 7/1/19.

Accession Number: 20190701-5392.

Comments Due: 5 p.m. ET 7/15/19.

Docket Numbers: RP19-1371-000.

Applicants: West Texas Gas, Inc.

Description: Annual Purchased Gas Cost Reconciliation Report of West Texas Gas, Inc. under RP19-1371.

Filed Date: 7/1/19.

Accession Number: 20190701-5393.

Comments Due: 5 p.m. ET 7/15/19.

Docket Numbers: RP19-206-005.

Applicants: Mississippi Canyon Gas Pipeline, L.L.C.

Description: Compliance filing MCGP RP19-206 Compliance Filing to be effective 8/1/2019.

Filed Date: 7/2/19.

Accession Number: 20190702-5146.

Comments Due: 5 p.m. ET 7/15/19.

Docket Numbers: RP19-73-002.

Applicants: El Paso Natural Gas Company, L.L.C.

Description: Compliance filing FERC Form No. 501-G Settlement Implementation Filing to be effective 1/1/2019.

Filed Date: 7/2/19.

Accession Number: 20190702-5116.

Comments Due: 5 p.m. ET 7/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2019.
Nathaniel J. Davis, Sr.,
Deputy Secretary.

[FR Doc. 2019-14829 Filed 7-11-19; 8:45 am]

BILLING CODE 6717-01-P